INTERNATIONAL TRADE COMMISSION

[Investigation Nos. 731-TA-1054 and 1055 (Preliminary)]

Light-Walled Rectangular Pipe and Tube From Mexico and Turkey

Determinations

On the basis of the record ¹ developed in the subject investigations, the United States International Trade Commission (Commission) determines,² pursuant to section 733(a) of the Tariff Act of 1930 (19 U.S.C. 1673b(a)) (the Act), that there is a reasonable indication that an industry in the United States is materially injured by reason of imports from Mexico and Turkey of light-walled rectangular pipe and tube, provided for in subheading 7306.60.5000 of the Harmonized Tariff Schedule of the United States, that are alleged to be sold in the United States at less than fair value (LTFV).

¹ The record is defined in § 207.2(f) of the Commission's Rules of Practice and Procedure (19 CFR 207.2(f)).

² Commissioner Daniel R. Pearson not participating.

Commencement of Final Phase Investigations

Pursuant to § 207.18 of the Commission's rules, the Commission also gives notice of the commencement of the final phase of its investigation. The Commission will issue a final phase notice of scheduling, which will be published in the Federal Register as provided in § 207.21 of the Commission's rules, upon notice from the Department of Commerce (Commerce) of affirmative preliminary determinations in the investigations under section 733(b) of the Act, or, if the preliminary determinations are negative, upon notice of affirmative final determinations in those investigations under section 735(a) of the Act. Parties that filed entries of appearance in the preliminary phase of the investigations need not enter a separate appearance for the final phase of the investigations. Industrial users, and, if the merchandise under investigation is sold at the retail level, representative consumer organizations have the right to appear as parties in Commission antidumping and countervailing duty investigations. The Secretary will prepare a public service list containing the names and addresses of all persons, or their representatives, who are parties to the investigations.

Background

On September 9, 2003, a petition was filed with the Commission and Commerce by California Steel and Tube, City of Industry, CA; Hannibal Industries, Inc., Los Angeles, CA; Leavitt Tube Co., Chicago, IL; Maruichi American Corp., Santa Fe Springs, CA; Northwest Pipe Co., Portland, OR; Searing Industries, Inc., Rancho Cucamongo, CA; Vest, Inc., Los Angeles, CA; and Western Tube and Conduit Corp., Long Beach, CA, alleging that an industry in the United States is materially injured or threatened with material injury by reason of LTFV imports of light-walled rectangular pipe and tube from Mexico and Turkey. Accordingly, effective September 9, 2003, the Commission instituted antidumping duty investigations Nos. 731-TA-1054 and 1055 (Preliminary).

Notice of the institution of the Commission's investigations and of a public conference to be held in connection therewith was given by posting copies of the notice in the Office of the Secretary, U.S. International Trade Commission, Washington, DC, and by publishing the notice in the Federal Register of September 16, 2003 (68 FR 54244). The conference was held in Washington, DC, on September 30, 2003, and all persons who requested the opportunity were permitted to appear in person or by counsel.

The Commission transmitted its determinations in these investigations to the Secretary of Commerce on October 24, 2003. The views of the Commission are contained in USITC Publication 3644 (October 2003), entitled Light-Walled Rectangular Pipe and Tube from Mexico and Turkey: Investigations Nos. 1054 and 1055 (Preliminary).

By order of the Commission.
Issued: October 24, 2003.
Marilyn R. Abbott,
Secretary.

[FR Doc. 03-27348 Filed 10-29-03; 8:45 am]

BILLING CODE 7020-02-P